DEPARTMENT OF HOMELAND SECURITY

Transportation Security Administration

[Docket No. TSA-2005-21866]

Intent To Request Renewal From OMB of One Current Public Collection of Information: Enhanced Security Procedures at Ronald Reagan Washington National Airport

AGENCY: Transportation Security Administration (TSA), DHS.

ACTION: 60 Day Notice.

SUMMARY: The Transportation Security Administration (TSA) invites public comment on one currently approved Information Collection Request (ICR), OMB control number 1652-0035, abstracted below that we will submit to the Office of Management and Budget (OMB) for renewal in compliance with the Paperwork Reduction Act. The ICR describes the nature of the information collection and its expected burden. The collection requires General Aviation (GA) aircraft operators who wish to fly into and/or out of Ronald Reagan Washington National Airport (DCA) to designate a security coordinator and adopt a DCA Access Standard Security Program (DASSP).

DATES: Send your comments by December 19, 2008.

ADDRESSES: Comments may be mailed or delivered to Joanna Johnson, Office of Information Technology, TSA-11, Transportation Security Administration, 601 South 12th Street, Arlington, VA 22202-4220.

FOR FURTHER INFORMATION CONTACT: Joanna Johnson at the above address, or by telephone (571) 227-3651 or facsimile (703) 603-0822.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control No. 1652-0035; Enhanced Security Procedures at Ronald Reagan Washington National Airport (DCA), 49 CFR part 1562. TSA is hereby requesting an extension of this information collection.

TSA requires General Aviation (GA) aircraft operators who wish to fly into and/or out of Ronald Reagan Washington National Airport (DCA) to designate a security coordinator and adopt the DCA Access Standard Security Program (DASSP). Once aircraft operators have complied with the DASSP requirements, they may be eligible to apply to the Federal Aviation Administration (FAA) for a reservation, and to TSA for authorization, to fly into and out of DCA.

To receive authorization for a flight, aircraft operators must submit certain information to TSA so that TSA can conduct name-based threat assessments on their crewmembers and passengers, including armed security officers (ASOs) who are required to be onboard. Each ASO must complete specialized training and receive authorization from TSA. The operators' last point of departure must be from a Fixed Base Operator (FBO) that holds a security program issued by TSA, at an airport designated by TSA (gateway airport). An FBO is an airport-based commercial enterprise that provides support services to aircraft operators. Inspection of aircraft and screening of the passengers, their carry-on property, and property carried in the cargo hold occur at each gateway airport before the aircraft departs for DCA.

For each passenger and crewmember onboard an aircraft that operates into or out of DCA, the aircraft operator must submit the following information: (1) Legal name, including first, middle, and last, any applicable suffix, and any other names used; (2) current mailing address, including residential address if different than current mailing address; (3) date and place of birth; (4) Social Security number (submission is voluntary, although recommended); (5) citizenship status and date of naturalization if the individual is a naturalized citizen of the United States; and (6) alien registration number, if applicable. TSA uses this information to perform a name-based security threat assessment in order to determine whether the individuals pose a security threat.

TSA requires the following individuals to submit identifying information and fingerprints for a Criminal History Records Check (CHRC): Individuals designated as security coordinators, ASOs, and flight crewmembers that operate GA aircraft into and out of DCA. For flight crewmembers, TSA uses this information to check their FAA records to determine whether they have violated specific regulations on prohibited or restricted airspace, and to conduct CHRCs on flight crewmembers that have not undergone a CHRC under his or her current employer. As part of the threat assessment process, TSA shares the information with the Federal Bureau of Investigation (FBI) and the FAA. In addition to providing fingerprints and identifying information, ASOs must provide personal history information (employment, criminal, education, training, military, medical, and law enforcement), as well as a photograph and weapon information.

Aircraft operators must provide TSA with the flight plan and registration number of their aircraft that operates to or from DCA. This information is also being shared with FAA for purposes of tracking and identifying approved aircraft. TSA estimates a total of 200 respondents annually. The total number of annual burden hours is estimated to be 227 hours per year (200 respondents × 1.135 hours per respondent = 227 hours annually).

Issued in Arlington, Virginia, on October 15, 2008.
Kurt Guyer,
Acting Program Manager, Business Improvements and Communications, Office of Information Technology.

[FR Doc. E8-24929 Filed 10-17-08; 8:45 am]

BILLING CODE 4910-62-P